DEPARTMENT OF DEFENSE

GENERAL SERVICES ADMINISTRATION

NATIONAL AERONAUTICS AND SPACE ADMINISTRATION

[OMB Control No. 9000-0077; Docket No. 2019-0003; Sequence No. 11]

Information Collection; Quality Assurance Requirements

AGENCY: Department of Defense (DOD), General Services Administration (GSA), and National Aeronautics and Space Administration (NASA).

ACTION: Notice of request for public comments regarding an extension to an existing OMB clearance.

SUMMARY: In accordance with the Paperwork Reduction Act of 1995 and the Office of Management and Budget (OMB) regulations, the FAR Council invites the public to comment upon a request to review and approve an extension of a previously approved information collection requirement concerning quality assurance requirements.

DATES: Submit comments on or before August 19, 2019.

ADDRESSES: Submit comments regarding this burden estimate or any other aspect of this collection of information, including suggestions for reducing this burden to GSA, by any of the following methods:

• Regulations.gov: http://www.regulations.gov. Submit comments via the Federal eRulemaking portal by searching the OMB control number. Select the link “Submit a Comment” that corresponds with “Information Collection 9000-0077, Quality Assurance Requirements”. Follow the instructions provided at the “Submit a Comment” screen. Please include your name, company name (if any), and “Information Collection 9000-0077, Quality Assurance Requirements” on your attached document.

• Mail: General Services Administration, Regulatory Secretariat Division (MVCB), 1800 F Street NW, Washington, DC 20405. ATTN: Ms. Mandell/IC 9000-0077, Quality Assurance Requirements.

Instructions: Please submit comments only and cite Information Collection 9000-0077, Quality Assurance Requirements, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Marilyn Chambers, Procurement Analyst, at 202-285-7380 or email marilyn.chambers@gsa.gov.

SUPPLEMENTARY INFORMATION:

A. Overview of Information Collection

Description of the Information Collection

1. Type of Information Collection: Revision/Renewal of a currently approved collection.

2. Title of the Collection—Quality Assurance Requirements.

3. Agency form number, if any: None.

Solicitation of Public Comment

Written comments and suggestions from the public should address one or more of the following four points: (1) Evaluate whether the collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology, e.g., permitting electronic submission of responses.

B. Purpose

Supplies and services acquired under Government contracts must conform to the contract's quality and quantity requirements. FAR Part 46 prescribes inspection, acceptance, warranty, and other measures associated with quality requirements. Standard inspection clauses require the contractor to provide and maintain an inspection system that is acceptable to the Government; give the Government the right to make inspections and test while work is in process; and require the contractor to keep complete, and make available to the Government, records of its inspection work. FAR clause 52.246-15, Certificate of Conformance, is not an inspection clause, but a requirement for the contractor to certify that supplies or services furnished are of the quality specified and conform in all respects with the contract requirements.

C. Annual Reporting Burden

1. Inspection Clauses

The FAR inspection clauses are used for quality assurance depending on the type of contract and the type of product or service being provided. The corresponding quality/inspection systems the contractors are required to implement have requirements for record keeping and in some cases documenting the quality or inspection system. These clauses do not require the transmittal or sending of documentation to the Government. Instead, the Government may review these records to confirm the contract quality requirements are being met. Definitive information was not available on how often the Government requests to see these records. The time required to provide the records is estimated as follows:

Respondents: 1,590.

Responses per Respondent: 1.

Total Responses: 1,590.

Hours per Response: 1.

Total Burden hours: 1,590.

2. Certificate of Conformance

FAR clause 52.246-15 is used in solicitations and contracts for supplies or services at the discretion of the contracting officer when it is in the Government's interest, small losses would be incurred in the event of a defect; or because of the contractor's reputation or past performance, it is likely that the supplies or services furnished will be acceptable and any defective work would be replaced, corrected, or repaired without contest. The clause requires the contractor to submit a prescribed certificate. The time required to submit the certificate is estimated as follows:

Respondents: 639.

Responses per Respondent: 1.

Total Responses: 639.

Hours per Response: .5.

Total Burden hours: 320.

Obtaining Copies of Proposals: Requesters may obtain a copy of the information collection documents from the General Services Administration, Regulatory Secretariat Division (MVCB), 1800 F Street NW, Washington, DC 20405, telephone 202-501-4755. Please cite OMB Control No. 9000-0077, Quality Assurance Requirements, in all correspondence.

Dated: June 17, 2019.
Janet Fry,
Director, Federal Acquisition Policy, Office of Governmentwide Acquisition Policy, Office of Acquisition Policy, Office of Governmentwide Policy.

[FR Doc. 2019-13141 Filed 6-19-19; 8:45 am]

BILLING CODE 6820-EP-P